DEPARTMENT OF ENERGY

Notice of Request for Information (RFI) Regarding Hydropower Incentive Program Definitions

AGENCY: Office of Energy Efficiency and Renewable Energy, Department of Energy (DOE).

ACTION: Request for information (RFI).

SUMMARY: The U.S. Department of Energy (DOE) invites public comment on its Request for Information (RFI) number DE-FOA-0002511 regarding a proposed definition for areas in which there is inadequate electric service. This is a new application requirement added to DOE's hydroelectric incentive program through the Energy Act of 2020. DOE's Office of Energy Efficiency and Renewable Energy (EERE) Water Power Technologies Office (WPTO) seeks input on the proposed definition, which will apply to DOE's hydroelectric incentive program.

DATES: Responses to the RFI must be received no later than 11:59 p.m. EST on September 7, 2021.

ADDRESSES: Interested parties are to submit comments electronically to hydroincentive@ee.doe.gov. Include definition of “an area in which there is inadequate electric service” concerning Section 242 in the subject of the title. Only electronic responses will be accepted. The complete RFI is located at https://eere-exchange.energy.gov/.

FOR FURTHER INFORMATION CONTACT: Questions may be addressed to Corey Vezina, email at hydroincentive@ee.doe.gov or phone number (240) 562-1382. Further instruction can be found in the RFI document posted on EERE Exchange.

SUPPLEMENTARY INFORMATION: The purpose of this RFI is to solicit feedback from industry, academia, research laboratories, government agencies, and other stakeholders on issues related to the proposed definition of “an area in which there is inadequate electric service.” WPTO is updating its application requirements for the hydroelectric incentive program authorized under Section 242 of the Energy Policy Act of 2005 (Pub. L. 109-58), 42 U.S.C. 15881. Section 3005 of the Energy Act of 2020 (Pub. L. 116-260) amended Section 242 of the Energy Policy Act of 2005 by expanding the definition of a qualified hydroelectric facility to include certain facilities “constructed in an area in which there is inadequate electric service.” To define this term, section 3005 requires the Secretary to take into consideration (a) access to the electric grid; (b) the frequency of electric outages; or (c) the affordability of electricity. EERE is specifically interested in identifying potential issues or conflicts that may arise from applying the proposed definition during the application review process. This is solely a request for information and not a Funding Opportunity Announcement. EERE is not accepting applications at this time.

Confidential Business Information: According to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Signing Authority: This document of the Department of Energy was signed on June 17, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 2, 2021.
Treena V. Garrett,
Federal Register Liaison Officer, U.S. Department of Energy.

[FR Doc. 2021-14565 Filed 7-7-21; 8:45 am]

BILLING CODE 6450-01-P